DEPARTMENT OF ENERGY

Federal Energy Regulatory Commission

[Project No. 13567-000]

City of Guttenberg, IA; Notice of Preliminary Permit Application Accepted for Filing and Soliciting Comments, Motions To Intervene, and Competing Applications

September 8, 2009.

On August 12, 2009, City of Guttenberg, Iowa filed an application, pursuant to section 4(f) of the Federal Power Act, proposing to study the feasibility of the Guttenberg Water Power Project (Guttenberg Project). The Guttenberg Project would be located at the U.S. Army Corps of Engineers' (Corps) Mississippi River Lock and Dam No. 10, located at River Mile 615.0 on the Mississippi River in Clayton County, Iowa, and Grant County, Wisconsin, adjacent to the City of Guttenberg.

The proposed Guttenberg Project would be installed within the existing and unused auxiliary lock adjacent to the 600-foot-long primary, operating lock which is adjacent to the existing 5,747-foot-long Corps Lock & Dam No. 10.

The proposed project would consist of: (1) Nine 485-kilowatt generator-turbine units totaling 4.365 megawatts (MW) that would be arrayed within the auxiliary lock on a frame module structure; (2) a new 69-kilovolt transmission line connected to an existing above-ground local distribution system; and (3) appurtenant facilities. The project would have an estimated average annual generation of 27,000 megawatt-hours.

Applicant Contact: Mr. Barry Dykhuizen, City Manager, City of Guttenberg, P.O. Box 580, 502 S. 1st St., Guttenberg, IA 52052-0580, (563) 252-1161 ext. 109.

FERC Contact: Patrick Murphy, (202) 502-8755.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13567) in the docket number field to access the document. For assistance, call toll-free 1-866-208-3372.

Kimberly D. Bose,
Secretary.

[FR Doc. E9-22099 Filed 9-14-09; 8:45 am]

BILLING CODE 6717-01-P